DEPARTMENT OF JUSTICE

Bureau of Alcohol, Tobacco, Firearms and Explosives

[OMB Number 1140-0091]

Agency Information Collection Activities; Proposed eCollection eComments Requested; Revision of a Currently Approved Collection; National Response Team Customer Satisfaction Survey

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0091 (National Response Team Customer Satisfaction Survey) is being revised due to an increase in the number of respondents and total burden hours, since the last renewal in 2016.

DATES: Comments are encouraged and will be accepted for 60 days until September 30, 2019.

FOR FURTHER INFORMATION CONTACT: If you have additional comments, regarding the estimated public burden or associated response time, suggestions, or need a copy of the proposed information collection instrument with instructions, or additional information, please contact: Jennifer George, Fire Investigations & Arson Enforcement Division, either by mail at ATF NCETR, Corporal Road, Building 3750, Redstone Arsenal, Huntsville, AL 35898, by email at Jennifer.George@atf.gov, or by telephone at 256-261-7614.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: National Response Team Customer Satisfaction Survey.

3. The agency form number, if any, and the applicable component of the Department sponsoring the collection:

Form number (if applicable): None.

Component: Bureau of Alcohol, Tobacco, Firearms and Explosives, U.S. Department of Justice.

4. Affected public who will be asked or required to respond, as well as a brief abstract:

Primary: State, Local or Tribal Government.

Other (if applicable): None.

Abstract: The National Response Team Customer Satisfaction Survey is used to obtain feedback regarding services provided by the ATF National Response Team.

5. An estimate of the total number of respondents and the amount of time estimated for an average respondent to respond: An estimated 32 respondents will utilize the survey, and it will take each respondent approximately 15 minutes to complete their responses.

6. An estimate of the total public burden (in hours) associated with the collection: The estimated annual public burden associated with this collection is eight (8) hours, which is equal to 32 (# of respondents) * 1 (# of responses per respondent) * .25 (15 minutes).

7. An Explanation of the Change in Estimates: The adjustment to the public burden includes an increase the number of respondents from 20 in 2016, to 32. Consequently, the total burden hours has also increased from 5 hours in 2016, to 8 hours.

If additional information is required contact: Melody Braswell, Department Clearance Officer, United States Department of Justice, Justice Management Division, Policy and Planning Staff, Two Constitution Square, 145 N Street NE, 3E.405A, Washington, DC 20530.

Dated: July 29, 2019.
Melody Braswell,
Department Clearance Officer for PRA, U.S. Department of Justice.

[FR Doc. 2019-16395 Filed 7-31-19; 8:45 am]

BILLING CODE 4410-FY-P